DEPARTMENT OF EDUCATION

Notice of Proposed Information Collection Requests

AGENCY: Department of Education.

ACTION: Comment Request.

SUMMARY: The Department of Education (the Department), in accordance with the Paperwork Reduction Act of 1995 (PRA) (44 U.S.C 3506(c)(2)(A)), provides the general public and Federal agencies with an opportunity to comment on proposed and continuing collection of information. This helps the Department assess the impact of its information collection requirements and minimize the reporting burden on the public and helps the public understand the Department's information collection requirements and provide the requested data in the desired format. The Director, Information Collection Clearance Division, Privacy, Information and Records Management Services, Office of Management, invites comments on the proposed information collection requests as required by the Paperwork Reduction Act of 1995.

DATES: Interested persons are invited to submit comments on or before October 17, 2011.

ADDRESSES: Comments may be submitted electronically to FAFSA.Comments@ed.gov. We ask that you copy them to ICDocketMgr@ed.gov or mail to U.S. Department of Education, UCP Building, 1830 First Street, NE., Washington, DC 20202-4357. Please note that written comments received in response to this notice will be considered public records.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is the collection necessary to the proper functions of the Department; (2) will this information be processed and used in a timely manner; (3) is the estimate of burden accurate; (4) how might the Department enhance the quality, utility, and clarity of the information to be collected; and (5) how might the Department minimize the burden of this collection on the respondents, including through the use of information technology.

Dated: August 12, 2011.
Darrin A. King,
Director, Information Collection Clearance Division, Privacy, Information and Records Management Services.

As required by the Paperwork Reduction Act of 1995, this notice requests comments on the 2012-2013 versions of the forms used by individuals applying for Federal student aid including the Free Application for Federal Student Aid (FAFSA) and the Student Aid Report (SAR).

Title: 2012-2013 Federal Student Aid Application.

Type of Review: Revision.

OMB Number: 1845-0001.

Frequency: Annually.

Respondents: Individuals.

Annual Respondents: 24,705,864.

Annual Responses: 46,447,024.

Annual Burden Hours: 29,357,853.

Abstract:Section 483 of the Higher Education Act of 1965, as amended (HEA), mandates that the Secretary of Education “* * * shall produce, distribute, and process free of charge common financial reporting forms as described in this subsection to be used for application and reapplication to determine the need and eligibility of a student for financial assistance.”

The determination of need and eligibility are for the following Title IV, HEA, Federal student financial assistance programs: the Federal Pell Grant Program; the Campus-Based programs (Federal Supplemental Educational Opportunity Grant (FSEOG), Federal Work-Study (FWS), and the Federal Perkins Loan Program); the William D. Ford Federal Direct Loan Program; the Teacher Education Assistance for College and Higher Education (TEACH) Grant; and the Iraq and Afghanistan Service Grant.

Federal Student Aid, an office of the U.S. Department of Education (hereafter “the Department”), developed an application process to collect and process the data necessary to determine a student's eligibility to receive Title IV, HEA program assistance. The application process involves an applicant's submission of the Free Application for Federal Student Aid (FAFSA). After submission of the FAFSA, an applicant receives a Student Aid Report (SAR) which is a summary of the data they submitted on the FAFSA. The applicant reviews the SAR, and, if necessary, will make corrections or updates to their submitted FAFSA.

The Department seeks OMB approval of all application components as a single “collection of information”. The aggregate burden will be accounted for under OMB Control Number 1845-0001. The specific application components, descriptions and submission methods for each are listed in Table 1.

Table 1—Federal Student Aid Application Components
Component | Description | Submission method
Initial Submission of FAFSA
FAFSA on the Web (FOTW) | Online FAFSA that offers applicants a customized experience. | Submitted by the applicant via http://www.fafsa.gov.
FOTW—Renewal | Online FAFSA for applicants who have previously completed the FAFSA
FOTW-EZ | Online FAFSA for applicants who qualify for the Simplified Needs Test (SNT) or Automatic Zero (Auto Zero) needs analysis formulas
FOTW-EZ Renewal | Online FAFSA for applicants who have previously completed the FAFSA and who qualify for the SNT or Auto Zero needs analysis formulas
FAFSA on the Phone (FOTP) | The Federal Student Aid Information Center (FSAIC) representatives assist applicants by filing the FAFSA on their behalf through FOTW | Submitted through http://www.fafsa.gov for applicants who call 1-800-4-FED-AID.
FOTP-EZ | FSAIC representatives assist applicants who qualify for the SNT or Auto Zero needs analysis formulas by filing the FAFSA on their behalf through FOTW
FAA Access | Online tool that a financial aid administrator (FAA) utilizes to submit a FAFSA. | Submitted through http://www.faaacess.ed.gov by a FAA on behalf of an applicant.
FAA Access—Renewal | Online tool that a FAA can utilize to submit a Renewal FAFSA
FAA Access—EZ | Online tool that a FAA can utilize to submit a FAFSA for applicants who qualify for the SNT or Auto Zero needs analysis formulas
FAA Access—EZ Renewal | Online tool that a FAA can utilize to submit a FAFSA for applicants who have previously completed the FAFSA and who qualify for the SNT or Auto Zero needs analysis formulas
Electronic Other | This is a submission done by a FAA, on behalf of the applicant, using the Electronic Data Exchange (EDE) | The FAA may be using their mainframe computer or software to facilitate the EDE process.
PDF FAFSA or Paper FAFSA | The paper version of the FAFSA printed by the Department for applicants who are unable to access the Internet or the online PDF FAFSA for applicants who can access the Internet but are unable to complete the form using FOTW | Mailed by the applicant.
Correcting Submitted FAFSA Information and Reviewing FAFSA Information
FOTW-Corrections | Any applicant who has a Federal Student Aid PIN (FSA PIN)—regardless of how they originally applied—may correct using FOTW Corrections | Submitted by the applicant via http://www.fafsa.gov.
Electronic Other—Corrections | With the applicant's permission, corrections can be made by a FAA using the EDE | The FAA may be using their mainframe computer or software to facilitate the EDE process.
Paper SAR—This is a SAR and an option for corrections | The full paper summary that is mailed to paper applicants who did not provide an e-mail address, to applicants who did not sign their application and to applicants whose records were rejected during processing because the Social Security Number did not match with the SSA. Applicants can write corrections directly on the paper SAR and mail for processing | Mailed by the applicant.
FAA Access—Corrections | An institution can use FAA Access to correct the FAFSA | Submitted through http://www.faaacess.ed.gov by a FAA on behalf of an applicant.
Internal Department Corrections | The Department will submit an applicant's record for system-generated corrections | There is no burden to the applicants under this correction type as these are system-based corrections.
FSAIC Corrections | Any applicant, with their Data Release Number (DRN), can change the postsecondary institutions listed on their FAFSA or change their address by calling FSAIC | These changes are made directly in the CPS system by a FSAIC representative.
SAR Electronic (eSAR) | This is the PDF version of the SAR for applicants who applied electronically or by paper and provided an e-mail address | Cannot be submitted for processing.
SAR Acknowledgment | This is the condensed paper SAR that is mailed to applicants who applied electronically but did not provide an e-mail address

This information collection also documents an estimate of the annual public burden as it relates to the application process for Federal student aid. The Applicant Burden Model (ABM), measures applicant burden through an assessment of the activities each applicant conducts in conjunction with other applicant characteristics. The ABM has been designed to accurately describe, in terms of burden, the average applicant's experience. Key determinants of the ABM include:

• The total number of applicants that will potentially apply for Federal student aid;

• How the applicant chooses to complete and submit the FAFSA, e.g., by paper or electronically via FOTW;

• How the applicant chooses to submit any corrections and/or updates (e.g., the paper SAR or electronically via FOTW Corrections);

• The type of SAR document the applicant receives (paper SAR, SAR acknowledgment, or the eSAR);

• The formula applied to determine the applicant's EFC (full need analysis formula, Simplified Needs Test or Automatic Zero); and

• The average amount of time involved in preparing to complete the application.

The ABM is largely driven by the number of potential applicants for the application cycle. The total application projection for 2012-2013 is based upon two factors—estimates of the total enrollment in all degree-granting institutions and the percentage change in FAFSA submissions for the last completed application cycle. The ABM is also based on the application options available to students and parents. The Department accounts for each application component based on web trending tools, survey information, and other Department data sources.

For 2012-2013, the Department is reporting a net burden reduction of 2,881,475 hours. The reduction is a reflection of the effects of simplifying FAFSA on the Web, which is utilized by the majority of applicants who apply for aid. For example, data reported in the 2011-2012 burden estimates reflected that an applicant that completed FOTW and had the ability to use a renewal version of the application (see FOTW—Renewal component in Table 1) would take approximately 1.20 hours (72 minutes). The most recent statistics reflect that on average that renewal applicant would actually spend about 1.08 hours (64.8 minutes).

Updated completion times were calculated for each component and have been used to estimate the burden, excluding the change in the applicant volume. The results demonstrate that the burden for all applicants would have decreased by almost 13 percent or 4,181,899 hours, if the application volume had remained constant.

If the Department had not simplified the application process, thus reducing the time required to complete the FAFSA, the new burden estimates would only need to account for the change in applicants. The 4.63% increase in applicants would result in an increase in burden of 1,300,424 hours.

Accounting for both the increase in total applicants and the decrease in individual applicant burden, the net change is an overall decrease of almost 9 percent or 2,881,475 hours. The following Table shows the net burden change and total cost for applicants. The change in total annual responses is also listed in the Table. Total annual responses include the original FAFSA submission, which is counted as one response for each applicant; and also includes a response for any subsequent correction generated by the applicant.

Table 2—Net Burden Change
| 2011-2012 | 2012-2013 | Change | % Change | Burden disposition
|  | Accounting for change in applicant burden and change in applicants
Total Applicants | 23,611,500 | 24,705,864 | +1,094,364 | +4.63 | Net decrease in burden. The increase in applicants is offset by the results of the Department's simplification changes. This has created an overall decrease in burden of 8.94% or 2,881,475 hours.
Total Applicant Burden | 32,239,328 | 29,357,853 | −2,881,475 | −8.94 |
Total Annual Responses | 32,239,328 | 46,447,024 | +14,207,696 | +44.07
Cost for All Applicants | $159,370.20 | $234,804.24 | $75,434.04 | +47.33

The Department is proud that efforts to simplify the FAFSA submission process have resulted in a continued decrease in the burden associated with the application process, even as the Department serves more students each year. The results demonstrate the significant improvements that have been made to the application process. The Department believes that these changes will contribute to more students completing the FAFSA and will assist more students with their pursuit of postsecondary education.

Request for Copies: Comments should be submitted to the Department as indicated. All comments will become a matter of public record. Requests for copies of the proposed information collection request may be accessed from http://edicsweb.ed.gov, by selecting the “Browse Pending Collections” link and by clicking on link number 4703. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection when making your request. Comments regarding burden and/or the collection activity requirements should be electronically mailed to ICDocketMgr@ed.gov. Individuals who use a telecommunications device for the deaf (TDD) may call the Federal Information Relay Service (FIRS) at 1-800-877-8339 between 8 a.m. and 8 p.m. Eastern time, Monday through Friday.

[FR Doc. 2011-20992 Filed 8-17-11; 8:45 am]

BILLING CODE